DEPARTMENT OF COMMERCE

National Oceanic and Atmospheric Administration

Agency Information Collection Activities; Submission to the Office of Management and Budget (OMB) for Review and Approval; Comment Request; West Coast Region Vessel Monitoring System Requirement in the Pacific Coast Groundfish Fishery

AGENCY: National Oceanic and Atmospheric Administration (NOAA), Commerce.

ACTION: Notice. Request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before March 12, 2021.

ADDRESSES: Interested persons are invited to submit written comments to Adrienne Thomas, NOAA PRA Officer, at Adrienne.thomas@noaa.gov. Please reference OMB Control Number 0648-0573 in the subject line of your comments. Do not submit Confidential Business Information or otherwise sensitive or protected information.

FOR FURTHER INFORMATION CONTACT: Requests for additional information or specific questions related to collection activities should be directed to Keeley Kent, National Marine Fisheries Service, 7600 Sand Point Way NE, Seattle, WA 98115, 206-247-8252, and keeley.kent@noaa.gov.

SUPPLEMENTARY INFORMATION:

I. Abstract

This is a request for a revision and extension of a currently approved information collection. The National Marine Fisheries Service (NMFS) implemented a Vessel Monitoring Program in 2004, consistent with the Magnuson-Stevens Fishery Conservation and Management Act (MSA) and the Pacific Coast Groundfish Fishery Management Plan (FMP). Under this program described at 50 CFR 660.13 and 660.14, all commercial fishing vessels fishing in the exclusive economic zone off the West Coast that take and retain groundfish in federal waters, or transit through federal waters with groundfish on board, are required to have a working vessel monitoring system (VMS). To support the VMS monitoring program, the following information must be submitted to NMFS: (1) VMS installation/activation certification reports, (2) position reports, (3) exemption reports, and (4) declaration reports. The VMS, along with the fishing declaration reporting requirements, allows for monitoring and enforcement of areas closed to fishing by gear type as traditional enforcement methods (such as aerial surveillance, boarding at sea via patrol boats, landing inspections and documentary investigation) are especially difficult to use when the closed areas are large-scale and the lines defining the areas are irregular.

The collection is being revised to remove the position report from the collection with regard to burden. The position reports are automatically transmitted location signals from the VMS unit that do not require any action on the part of the captain or crew.

II. Method of Collection

Affected commercial fishing vessel owners must submit VMS installation/activation certification reports, the VMS systems send automatic position updates, affected vessels captains must submit declarations reports via phone.

III. Data

OMB Control Number: 0648-0573.

Form Number(s): None.

Type of Review: Regular submission, extension of a current information collection.

Affected Public: Business or other for-profit organizations; individuals or households.

Estimated Number of Respondents: 1000.

Estimated Time per Response: 5 hours to install and activate a VMS unit; 1 hour per year to maintain a VMS; 0 seconds for an automated position report; 5 minutes to complete and fax a check-in report or to complete an exemption report; 4 minutes for a declaration report.

Estimated Total Annual Burden Hours: 6,999.99.

Estimated Total Annual Cost to Public: $97,035.30.

Respondent's Obligation: Mandatory.

Legal Authority: 50 CFR 660.13 and 660.14.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-00296 Filed 1-8-21; 8:45 am]

BILLING CODE 3510-22-P